Presidential Determination No. 2018-12 of September 11, 2018

Presidential Determination on Major Drug Transit or Major Illicit Drug Producing Countries for Fiscal Year 2019

Memorandum for the Secretary of State

By the authority vested in me as President by the Constitution and the laws of the United States, including section 706(1) of the Foreign Relations Authorization Act, Fiscal Year 2003 (Public Law 107-228) (FRAA), I hereby identify the following countries as major drug transit or major illicit drug producing countries: Afghanistan, The Bahamas, Belize, Bolivia, Burma, Colombia, Costa Rica, Dominican Republic, Ecuador, El Salvador, Guatemala, Haiti, Honduras, India, Jamaica, Laos, Mexico, Nicaragua, Pakistan, Panama, Peru, and Venezuela.

A country's presence on the foregoing list is not necessarily a reflection of its government's counternarcotics efforts or level of cooperation with the United States. Consistent with the statutory definition of a major drug transit or drug producing country set forth in section 48l(e)(2) and (5) of the Foreign Assistance Act of 1961, as amended (FAA), the reason countries are placed on the list is the combination of geographic, commercial, and economic factors that allow drugs to transit or be produced, even if a government has engaged in robust and diligent narcotics control measures.

Pursuant to section 706(2)(A) of the FRAA, I hereby designate Bolivia and Venezuela as countries that have failed demonstrably during the previous 12 months to adhere to their obligations under international counternarcotics agreements and to take the measures required by section 489(a)(1) of the FAA. Included with this determination are justifications for these designations, as required by section 706(2)(B) of the FRAA. I have also determined, in accordance with provisions of section 706(3)(A) of the FRAA, that support for programs to aid the promotion of democracy in Venezuela are vital to the national interests of the United States.

Combatting the ongoing United States opioid epidemic is one of my Administration's most urgent priorities. The Consolidated Appropriations Act of 2018, which I signed into law this spring, dedicated nearly $4 billion in additional funding to confront this national crisis. My Administration is committed to addressing all factors fueling this drug crisis, which is devastating communities across America, including steps to curb over-prescription, expand access to treatment and recovery programs, improve public education programs to prevent illicit drug use before it begins, and to strengthening domestic drug enforcement at our borders and throughout our Nation. Alongside these massive and historic United States efforts, I expect the governments of countries where illicit drugs originate and through which they transit to similarly strengthen their commitments to reduce dangerous drug production and trafficking.

In this respect, I am deeply concerned that illicit drug crops have expanded over successive years in Colombia, Mexico, and Afghanistan, and are now at record levels. Drug production and trafficking in these three countries directly affect United States national interests and the health and safety of American citizens. Heroin originating from Mexico and cocaine from Colombia are claiming thousands of lives annually in the United States. Afghanistan's illicit opium economy promotes corruption, funds the Taliban, and undermines that country's security, which thousands of United States service men and women help defend. Despite the efforts of law enforcement and security forces, these countries are falling behind in the fight to eradicate illicit crops and reduce drug production and trafficking. These governments must redouble their efforts to rise to the challenge posed by the criminal organizations producing and trafficking these drugs, and achieve greater progress over the coming year in stopping and reversing illicit drug production and trafficking. The United States will continue its strong support for international efforts against drug production and trafficking, as well as to strengthen prevention and treatment efforts in the United States. The urgency of our national drug epidemic requires significant and measurable results immediately, in the coming year and in the future.

You are authorized and directed to submit this designation, with the Bolivia and Venezuela memoranda of justification, under section 706 of the FRAA, to the Congress, and publish it in the Federal Register.

THE WHITE HOUSE,

Washington, September 11, 2018

[FR Doc. 2018-21806

Filed 10-3-18; 11:15 am]

Billing code 4710-10-P